DEPARTMENT OF DEFENSE

Office of the Secretary

[Transmittal No. 23-0D]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0D.

Dated: September 18, 2024.
Aaron T. Siegel,
Alternate OSD Federal Register Liaison Officer, Department of Defense.

BILLING CODE 6001-FR-P

BILLING CODE 6001-FR-C

Transmittal No. 23-0D

REPORT OF ENHANCEMENT OR UPGRADE OF

SENSITIVITY OF TECHNOLOGY OR

CAPABILITY (SEC. 36(B)(5)(C), AECA)

(i) Purchaser: Government of Romania

(ii) Sec. 36(b)(1), AECA Transmittal No.: 17-35

Date: July 10, 2017

Military Department: Army

Funding Source: National Funds

(iii) Description: On July 10, 2017, Congress was notified by congressional certification transmittal number 17-35 of the possible sale, under Section 36(b)(1) of the Arms Export Control Act, of seven (7) Patriot Configuration-3+ Modernized Fire Units consisting of: seven (7) AN/MPQ-65 radar sets, seven (7) AN/MSQ-132 engagement control stations, thirteen (13) antenna mast groups, twenty-eight (28) M903 launching stations, fifty-six (56) Patriot MIM-104E Guidance Enhanced Missile-TBM (GEM-T) missiles, one hundred and sixty-eight (168) Patriot Advanced Capabilty-3 (PAC-3) Missile Segment Enhancement (MSE) missiles, and seven (7) Electrical Power Plants (EPP) III. Also included with this request was communications equipment, tools and test equipment; support equipment; prime movers; generators; publications and technical documentation; training equipment; spare and repair parts; personnel training; Technical Assistance Field Team (TAFT), USG and contractor technical, engineering, and logistics support services; Systems Integration and Checkout (SICO); field office support; and other related elements of logistics and program support. The estimated total cost was $3.9 billion. Major Defense Equipment (MDE) constituted $1.3 billion of this total.

This transmittal notifies the inclusion of the following additional MDE items: forty (40) Patriot Advanced Capability-2 (PAC-2) Anti-Tactical Missiles (ATM), MIM-104C. The estimated total value of these additional items is $200 million. The total estimated MDE value will increase by $200 million, resulting in a new MDE total of $1.5 billion. The total estimated case value will increase to $4.1 billion.

(iv) Significance: The proposed sale will improve Romania's capacity to counter threats posed by potential attacks. This will contribute to the Romanian Armed Forces' effort to update its capabilities and enhance interoperability with the United States and other allies.

(v) Justification: This proposed sale will support the foreign policy goals and national security objectives of the United States by improving the security of a NATO Ally that is a force for political stability and economic progress in Europe.

(vi) Sensitivity of Technology: The Sensitivity of Technology statement contained in the original notification applies to items reported here.

The highest level of classification of defense articles, components, and services included in this potential sale is SECRET.

(vii) Date Report Delivered to Congress: May 2, 2023

[FR Doc. 2024-21695 Filed 9-20-24; 8:45 am]

BILLING CODE 6001-FR-P